ENVIRONMENTAL PROTECTION AGENCY

[ER-FRL-6253-2]

Environmental Impact Statements; Notice of Availability Responsible Agency

Office of Federal Activities, General Information (202) 564-7167 or www.epa.gov/oeca/ofa.

Weekly receipt of Environmental Impact Statements

Filed April 03, 2000 Through April 07, 2000

Pursuant to 40 CFR 1506.9.

EIS No. 000095, FINAL EIS, AFS, MT, Good Creek Resource Management Project, Implementation, Vegetation Treatments and Other Activities to Restore Watershed, Flathead National Forest, Tally Lake Ranger District, Flathead County, MT, Due: May 15, 2000, Contact: Bryan Donner (406) 863-5408.

EIS No. 000096, DRAFT EIS, AFS, ID, East Slate Project, Harvesting Timber, Implementation, Idaho Panhandle National Forests, St. Joe Ranger District, Shoshone County, ID, Due: May 30, 2000, Contact: Pete Ratcliffe (208) 245-6071.

EIS No. 000097, DRAFT EIS, IBW, El Paso—Las Cruces Regional Sustainable Water Project, To Secure Future Drinking Water Supplies, United States and New Mexico, Due: June 13, 2000, Contact: Douglas Echlin (915) 832-4741.

EIS No. 000098, DRAFT EIS, BIA, WA, Colville Indian Reservation Integrated Resource Management Plan, Implementation, Colville Indian Reservation, Okanogan and Ferry Counties, WA, Due: May 30, 2000, Contact: William Nicholson (509) 634-2316.

EIS No. 000099, FINAL EIS, BIA, AZ, NM, Programmatic EIS—Navajo Ten Year Forest Management Plan Alternatives, Implementation and Funding, AZ and NM, Due: May 15, 2000, Contact: Harold D. Russell (520) 729-7228.

EIS No. 000100, FINAL SUPPLEMENT, UAF, FL, CA, Evolved Expendable Launch Vehicle (EELV) Program, Development, Operation and Deployment, Proposed Launch Locations are Cape Canaveral Air Station (AS), Florida and Vandenberg Air Force Base (AFB), California, Federal Permits and Licenses, FL and CA, Due: May 15, 2000, Contact: Jonathan D. Farthing (210) 536-3668.

EIS No. 000101, DRAFT EIS, FAA, NC, Piedmont Triad International Airport, Construction and Operation, Runway 5L/23R and New Overnight Express Air Cargo Sorting and Distribution Facility, and Associated Developments, Funding, NPDES and COE Section 404 Permit, city of Greensboro, Guilford County, NC, Due: May 30, 2000, Contact: Donna M. Meyer (404) 305-7150.

EIS No. 000102, DRAFT SUPPLEMENT, COE, FL, Central and Southern Florida Project for Flood Control and Other Purposes, Everglades National Park Modified Water Deliveries, New Information concerning Flood Mitigation to the 8.5 Square Mile Area (SMA), Implementation, South Miami, Dade County, FL, Due: May 30, 2000, Contact: Elmar Kurzbach (904) 232-2325.

EIS No. 000103, DRAFT EIS, TVA, MS, Union County Multipurpose Reservoir/Other Water Supply Alternatives Project, To Provide an Adequate and Reliable Water Supply, COE Section 404 Permit and NPDES Permit, city of New Alban, Uniton County, MS, Due: May 30, 2000, Contact: Gary Hickman (865) 632-1791.

EIS No. 000104, FINAL EIS, FHW, NY, Stewart Airport Access Transportation Improvement Project, A New Interchange on I-84 at Drury Lane, Reconstruction of Drury Lane and a new East-West Connector Road from Drury Lane to Stewart International Airport, Funding, Towns of Montgomery, Newburgh and New Windsor, Orange County, NY, Due: May 15, 2000, Contact: Harold J. Brown (518) 431-4127.

EIS No. 000105, DRAFT EIS, NPS, CA, Yosemite Valley Plan, A Comprehensive Look of at Four Areas of Concern: Resource Preservation and Restoration, Visitor Enjoyment, Transportation, and Employee Housing, from Happy Isles to El Portal Road/Big Oak Flat Road, Merced River, several counties, CA, Due: July 14, 2000, Contact: Alan Schmierer (209) 372-0261.

EIS No. 000106, DRAFT EIS, NPS, Shenandoah Valley Battlefields National Historic District Management Plan, Implementation, Augusta, Clarks, Frederick, Highland, Page, Rockingham, Shenandoah and Warren Counties, VA, Due: June 14, 2000, Contact: Jeffrey P. Reinbold (540) 740-4549.

EIS No. 000107, FINAL EIS, DOE, SC, Savannah River Site Spent Nuclear Fuel Management Plan, Implementation, Aiken County, SC, Due: May 15, 2000, Contact: Andrew R. Grainger (803) 725-1523.

Amended Notices

EIS No. 000033, DRAFT EIS, AFS, WA, Deadman Creek Ecosystem Management Projects, Implementation, Kettle Falls Ranger District, Colville National Forest, Ferry County, WA, Due: April 28, 2000, Contact: Wade Spang (509) 738-6111. Published FR on 2-11-2000: CEQ Comment Date has been extended from 03/30/2000 to 04/28/2000.

EIS No. 000040, DRAFT EIS, AFS, OR, Mt. Ashland Ski Area Expansion, Implementation, Ashland Ranger District, Rogue River National Forest and Scott River Ranger District, Klamath National Forest, Jackson County, OR, Due: May 04, 2000, Contact: Linda Duffy (541) 482-3333. Published FR on 2-18-2000: CEQ Comment Date has been extended from 04/03/2000 to 05/04/2000.

EIS No. 000087, DRAFT EIS, AFS, ID, Idaho Panhandle National Forests, Small Sales, Harvesting Dead and Damaged Timber, Coeur d'Alene River Range District, Kootenai and Shoshone Rehnborg (208) 664-2318. Published FR-4-07-00—Correction to Comment Period from 5-15-2000 to 5-22-2000.

EIS No. 000088, DRAFT EIS, AFS, PA, Duck and Sheriff Project Area (DSPA), Timber Management, Road Construction and Reconstruction, Trail Maintenance, Wildlife Habitat Improvement, and Recreation Management, Allegheny National Forest, Bradford Ranger District, Cherry Grove Township of Warren County, and Howe Township of Forest County, PA, Due: May 22, 2000, Contact: John Schultz (814) 362-4613. Published FR-04-07-00) Correction to Comment Period from 5-15-200 to 5-22-2000.

EIS No. 000089, DRAFT EIS, AFS, ID, Warm Springs Ridge Vegetation Management Project, Improve Forest Conditions, Boise National Forest, Cascade Resource Area, Boise County, ID, Due: May 22, 2000, Contact: Kathy Ramirez (208) 392-6681. Published FR—04-07-00 Correction to Comment Period from 05-15-2000 to 5-22-2000.

EIS No. 000090, FINAL EIS, FAA, MA, Provincetown Municipal Airport Safety and Operational Enhancement Project, Improvements (1) Firefighter Equipment Garage; (2) General Aviation Parking Apron Expansion; (3) Runaway Safety Areas, and (4) a Runaway Extension, COE Section 404 Permit, Cape Cod National Seashore, Barnstable County, MA, Due: May 08, 2000, Contact: Frank Smigelski (781) 238-7618. Published—FR 04-07-00—Correction to Comment Period from 5-01-2000 to 5-8-2000.

EIS No. 000092, FINAL EIS, FTA, CA, Vasona Corridor Light Rail Transit Project, Extension of existing Light Rail Transit (LRT), in portion of the Cities of San Jose, Campbell and Los Gatos, Santa Clara County, CA , Due: May 08, 2000, Contact: Jerome Wiggins (415) 744-3115. Published FR—04-07-00 Correction to Comment Period from 5-1-2000 to 5-8-2000.

EIS No. 000093, DRAFT EIS, AFS, ID, JJ (Jerry Johnson) Ecosystem Restoration Project, Implementation, Clearwater National Forest, Lochsa Ranger District (Powell), Idaho County, ID, Due: May 22, 2000, Contact: Ken Hotchkiss (208) 942-3113. Published FR—04-14-00—Correction to Comment Period from 5-15-2000 to 05-22-2000.

Dated: April 11, 2000.
Joseph C. Montgomery,
Director, NEPA Compliance Division, Office of Federal Activities.

[FR Doc. 00-9370 Filed 4-13-00; 8:45 am]

BILLING CODE 6560-50-U